DEPARTMENT OF HEALTH AND HUMAN SERVICES

Substance Abuse and Mental Health Services Administration

Fiscal Year (FY) 2023 Funding Opportunity

AGENCY: Substance Abuse and Mental Health Services Administration, HHS.

ACTION: Notice of intent to award a single source cooperative agreement to the Mental Health Association of New York City, Inc. (DBA Vibrant Emotional Health).

SUMMARY: This notice is to inform the public that the Substance Abuse and Mental Health Services Administration (SAMHSA) intends to award $47 million (total costs) for up to one year to Vibrant Emotional Health for the 988 Suicide and Crisis Lifeline Access Improvement Project. Funding for this program is from the Bipartisan Safer Communities Act, [Pub. L. 117-159, Division B, Title II]. Under this cooperative agreement, Vibrant Emotional Health will expand access to the local and national Lifeline backup centers, language services, system evaluation and data reporting, and access to specialized care for populations to be known at higher risk for suicide by: (1) expanding options for connection and support for individuals at higher risk of suicide, which includes but is not limited to LGBTQI+, American Indian/Alaska Native, rural individuals, individuals with mental illness and substance use disorders, Black/African-American youth and older men; (2) expanding current language access services to include Spanish chat and text, and videophone for those deaf and hard of hearing; and (3) improve access and capacity utilization of the nationwide backup system while maximizing state and territory response.

Funding Opportunity Title: 988 Suicide and Crisis Lifeline Access Improvement Project.

Assistance Listing Number: 93.243.

Authority: Section 520E-3 of the Public Health Service Act, as amended.

Justification: Eligibility for this award is limited to the Mental Health Association of New York City, Inc. (DBA Vibrant Emotional Health). Vibrant Emotional Health is the current Lifeline system administrator and this award expand options for connection and support for individuals at higher risk of suicide, expand current language access services to include Spanish chat and text services, work to activate videophone for those deaf and hard of hearing, and improve access and capacity utilization of the nationwide backup system while maximizing state and territory response. Since 2005, Vibrant Emotional Health has provided oversight and management of the NSPL and its local call centers, backup centers, Spanish network, and chat/text functions with a network of over 200 centers in all fifty states. In FY 2021, SAMHSA issued a competitive Notice of Funding Opportunity for the NSPL, which was awarded to Vibrant Emotional Health for a 5-year project period (September 30, 2021, to September 29, 2026). Vibrant Emotional Health has the infrastructure, experience, and national reach to work with the backup centers, language services, and chat/text organizations to address the increased contact volumes expected in 2023. With the transition to 988 accomplished, greater services, such as expanding access to the local and national Lifeline backup centers, language services, system evaluation and data reporting, and access to specialized care for populations to be known at higher risk for suicide, are required for the 988 projected contacts in 2023 and beyond.

It would not be possible for any other organization to establish the relationships or technical systems with crisis centers that Vibrant Emotional Health has built over the last 15 years to accomplish the goals by December 2023. Any significant modification to the current 988 network, technology platform and/or administration would significantly delay operational outcomes and run the risk of significant numbers of unanswered calls, chats, and texts of individuals in crisis. Since the transition to 988, the Lifeline, under Vibrant's network administration and HHS funding, has seen call answer rates significantly improve and far greater numbers of individuals served in crisis. The impact of having administration disruption and splitting of network oversight significantly increases public safety risk now more than ever as 988 is quickly becoming transitioned to a greater utilized public service and an entry way into more centralized behavioral health crisis care. Oversight of the expanded back up, language services, and chat/text centers would be fragmented and run the risk of both inefficiencies and adverse outcomes, as well as coordination, quality monitoring, and rapid response could be compromised. Vibrant has extensive engagement, including direct contractual obligations, with the Department of Veterans Affairs (VA), Veterans Crisis Line (VCL) that helps ensure call connectivity between Vibrant and VCL, backup services, and engagement across the Lifeline local crisis centers on Veteran identification, care, and linkage to VA. and is uniquely qualified to carry-out the requirements of this funding opportunity.

SUPPLEMENTARY INFORMATION: It is expected this program will: (1) increase operational transparency and improve data and workforce management; (2) increase language access services available to the nation, including adding chat and text Spanish services; and (3) further enhance access for high-risk populations. With this award, Vibrant Emotional Health will directly support the needed expansion of the national back-up system of Lifeline crisis centers, expand options for connection and support, including backup, chat, text, Spanish, and specialized centers; enhance operational administrative and data systems to ensure the Network can meet or exceed established metrics; expand Spanish and other languages chat and text services, and video services for those deaf or hard of hearing; ensure crisis centers across states, and territories are provided enhanced technical assistance for improving response rates for all phone, chat and text services and develop processes for enhanced analytic capability in the actual connection rates for center and state outcomes across all services; develop network operational dashboards to improve oversight of outcomes and enhance public data transparency of network service and response. In addition, this funding will also enhance workforce management solutions for the Lifeline crisis centers, helping to ensure effective workforce projection planning and utilization to meet network, state, and local key performance indicators; develop a plan to expand and/or provide support and response for populations at high risk for suicide; and provide expanded services for populations at higher risk of suicide, including but not limited to LGBTQI+, American Indian/Alaska Native, rural individuals, individuals with mental illness and substance use disorders, Black/African-American youth and older men by September 30, 2023.

This is not a formal request for application. Assistance will be provided only to Vibrant Emotional Health based on the receipt of a satisfactory application that is approved by an independent review group.

Contact: James Wright, Substance Abuse and Mental Health Services Administration, 5600 Fishers Lane, Rockville, MD 20857; telephone: (240) 276-1615; email: james.wright@samhsa.hhs.gov.

Alicia Broadus,
Public Health Advisor.

[FR Doc. 2022-23274 Filed 10-25-22; 8:45 am]

BILLING CODE 4162-20-P